CONSUMER PRODUCT SAFETY COMMISSION

[CPSC Docket No. CPSC-2008-0005]

16 CFR Part 1634

Upholstered Furniture Fire Safety Technology; Meeting and Request for Comments

AGENCY: Consumer Product Safety Commission.

ACTION: Announcement of meeting and request for comments.

SUMMARY: The Consumer Product Safety Commission (CPSC, Commission, or we) is announcing its intent to hold a meeting on upholstered furniture fire safety technologies. The meeting will be held at the CPSC's laboratory in Rockville, MD, on April 25, 2013. We invite interested parties to participate in or attend the meeting. We also invite interested parties to submit comments related to the meeting or the possible change in regulatory approach discussed in this notice.

DATES: The meeting will be held from 9:00 a.m. to 4:00 p.m. on April 25, 2013. Individuals interested in serving on panels or presenting information at the meeting should register by March 25, 2013; all other individuals who wish to attend the meeting should register by April 18, 2013. Written comments must be received by July 1, 2013.

ADDRESSES: The meeting will be held at the CPSC's National Product Testing and Evaluation Center, 5 Research Place, Rockville, MD 20850. Persons interested in serving on a panel, presenting information, or attending the meeting should register online at http://www.cpsc.gov/meetingsignup.html and click on the link titled, “Upholstered Furniture Fire Safety Technology Meeting.”

You may submit written comments, identified by Docket No. CPSC-2008-0005, by any of the following methods:

Submit electronic comments in the following way:

Federal eRulemaking Portal: http://www.regulations.gov. Follow the instructions for submitting comments. The Commission does not accept comments submitted by electronic mail (email), except through www.regulations.gov.

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

FOR FURTHER INFORMATION CONTACT: Rohit Khanna, Office of Hazard Identification and Reduction, 5 Research Place, Rockville, MD 20850, telephone 301-987-2508, email furnituretechmeeting@cpsc.gov.

SUPPLEMENTARY INFORMATION:

I. Background

On March 4, 2008, the Commission published a notice of proposed rulemaking (NPR) proposing a standard for the flammability of residential upholstered furniture. 73 FR 11702. The NPR originated from a petition submitted by the National Association of State Fire Marshals (NASFM) in 1993, and subsequent work by CPSC staff. The history of the upholstered furniture rulemaking is summarized in the preamble to the NPR. 73 FR 11702. Under the NPR, upholstered furniture could meet the proposed standard by having either: (1) Upholstery cover material that complies with the prescribed smoldering ignition resistance test (called “Type I furniture”) or (2) an interior fire barrier that complies with specified smoldering and open-flame ignition resistance tests (called “Type II furniture”). The proposed rule set forth performance tests to be conducted with materials installed in mockups (using standardized test materials) to simulate the intersection of the seating area of an item of upholstered furniture. At the time the NPR was published, CPSC staff stated that real scale validation testing was needed to demonstrate that the bench-scale test approach in the NPR was adequate to address the fire performance of full-scale furniture. This point was also raised later in public comments received in response to the NPR.

Since the Commission published the NPR, CPSC staff has conducted testing of upholstered furniture, using both full-scale furniture and bench-scale models, as proposed in the NPR. For this test series, the bench-scale performance did not demonstrate an adequate prediction of real furniture flammability performance, especially in the smoldering ignition tests. The open-flame ignition bench-scale qualification tests for fire barriers, however, do appear to result in improvements in full-scale fire performance. At this point, CPSC's testing indicates significant promise for barriers as a means to address the flammability risk posed by upholstered furniture.

The Commission staff believes that fire barrier technology likely has advanced since publication of the NPR. One purpose of the Fire Safety Technology meeting is to gather additional information about the current and anticipated progress in fire barrier technologies and their application to upholstered furniture. Another purpose is to discuss other technologies and options to reduce the fire hazard posed by residential furniture.

II. Topics for the Meeting

In general, the meeting will focus on current and anticipated progress on fire barrier technologies and other options to reduce the fire hazard posed by residential furniture. We have identified the topics for the meeting below. In Section IV of this notice, we are seeking written comments on these topics as well as additional topics that are beyond the scope of what will be discussed at the meeting. We have identified the following specific topics we would like panelists to address at the meeting:

1. Fire Barriers

• Types of products available

• Materials and technologies used in fire barriers

• Capabilities and limitations of fire barriers

• Mattress fire barriers

• Cost considerations

2. Commercial Furniture Fire Safety Technologies

• Fire reduction strategies

• Applicability to residential furniture

3. Application of Other Fire Safety Technologies to Residential Furniture

• Fire technologies used in marine and aviation furniture

• Fire technologies used in other countries

• Cost considerations

We will determine the order of the panel sessions once we confirm the number of panelists available for each topic area. We may combine, expand, or eliminate panel sessions, depending upon the level of interest. The final schedule will be announced on our Web site by April 11, 2013.

III. Details Regarding the Meeting

A. When and where will the meeting be held?

The meeting will be held from 9:00 a.m. to 4:00 p.m. on April 25, 2013, at the CPSC's Laboratory, 5 Research Place, Rockville, MD 20850.

B. How do you register for the meeting?

If you would like to be a panelist for a specific session of the meeting, you should register by March 25, 2013. (See the ADDRESSES portion of this document for the Web site link and instructions on where to register.) We also ask that you submit a brief (less than 200 word) abstract of your topic and area of expertise. If we receive more requests for a particular session from potential panelists than time will allow, staff will select panelists based on a variety of considerations, including: Whether the information to be presented has been received in previous open comment periods; the individual's familiarity or expertise with the topic to be discussed; the practical utility in the information to be presented; the topic's relevance to the identified theme and topic area. Although an effort will be made to accommodate all persons who wish to be panelists, we expect to limit each panel session to no more than approximately five panelists. Therefore, the final number of panelists may be limited. We recommend that individuals and organizations with common interests consolidate or coordinate their panelist requests. To assist in making final panelist selections, staff may ask potential panelists to submit planned presentations in addition to the initial abstract. We plan to notify selected panelists by April 4, 2013.

If you wish to attend and participate in the meeting, but you do not wish to be a panelist, you should register by April 18, 2013, and identify your affiliation. Every effort will be made to accommodate each person's request; however, we may need to limit registration to meet the occupant capacity of our meeting rooms. If you are unable to attend the meeting in person, the meeting will be available through a webcast, but you will not be able to interact with the panels and presenters. You do not need to register for the webcast.

If you wish to submit written comments, you may do so before or after the meeting, by any of the methods stated in the ADDRESSES portion of this notice. These comments should be received by July 1, 2013. Comments should focus on new information that was not submitted previously that is related to the topic areas listed above.

C. What will be the format of the meeting?

The meeting will open with a plenary session that includes a brief overview of the Commission's past activities on the furniture flammability rulemaking. Following that, there will be a series of panels covering the topics listed above. Each panel session will consist of stakeholders and members of the public and will be moderated by CPSC staff. We expect potential panelists to speak for approximately 10 minutes each about their topic area. At the conclusion of the panel's presentations, there will be a question, answer, and discussion session among the panelists and the audience, limited to the topics discussed by the panelists. Each panel session is expected to last approximately 1 hour and 45 minutes.

D. What happens if few people register for the meeting?

If fewer than 6 panelists or 20 participants register for the meeting, we may cancel the meeting. If we decide to cancel the meeting for this or any other reason, we will post a cancellation notice on the registration Web page for the meeting and send an email to each registered participant who provides a valid email address when registering.

IV. Request for Comments

We request comments on the possibility of moving from a regulatory approach that primarily addresses fire deaths caused by smoldering ignition sources using bench scale models to one that relies on the use of fire barriers to address fires started by multiple types of ignition sources (including smoking materials) by limiting fire growth similar to the performance requirements in 16 CFR 1633. Staff has encountered problems with controlling standard materials (foam, fabric, barriers) when used in bench scale tests with a smoldering ignition source. Staff became concerned with the NPR approach when correlation of fire performance between bench scale tests and full scale chair tests—when tested for smoldering ignition—was not validated. Chairs tested with fire barriers consistently performed better than non-barrier chairs in open flame testing. In assessing the potential new strategy, CPSC staff is seeking information on the following questions:

1. Can fire barriers used by the mattress industry be used in upholstered furniture applications?

2. What modifications to mattress fire barriers, if any, are necessary to make them effective in upholstered furniture?

3. What technologies (Fire retardant (FR) chemicals, specialty fibers/fabrics without FR chemicals, inherently fire resistant materials, etc.) do fire barrier manufacturers use to achieve improved fire performance?

4. Do fire barrier manufacturers use FR chemicals to achieve improved fire performance? If so, are the FR chemicals covalently bonded to the barrier? What is the risk of human exposure from the specific FR chemicals used? What exposure testing and data exists for the specific FR chemicals used? Is the product that uses an FR chemical based fire barrier labeled to indicate use of such FR chemicals within it?

5. What, if any, FR chemicals are used in mattress or other fire barrier technologies?

6. What are the cost considerations for using fire barriers? How does furniture manufacturing and assembling change with a fire barrier?

7. Given the variety of ignition sources involved in furniture fires, which ignition sources resulting in fatalities would fire barriers be effective in addressing the fatalities?

8. What fire safety technologies from commercial furniture can be applied to residential furniture?

9. What fire safety technologies from other industries (e.g., marine, aviation) can be applied to residential furniture?

10. For fire barrier materials that do not use FR chemical treatments, what materials are used and what human exposure data exist for those materials?

Dated: March 15, 2013.
Todd A. Stevenson,
Secretary, Consumer Product Safety Commission.

[FR Doc. 2013-06372 Filed 3-19-13; 8:45 am]

BILLING CODE 6355-01-P